DEPARTMENT OF THE INTERIOR

Fish and Wildlife Service

50 CFR Part 16

Injurious Wildlife; Review of Information Concerning Black Carp (Mylopharyngodon piceus)

AGENCY: Fish and Wildlife Service, Interior.

ACTION: Advance notice of proposed rulemaking.

SUMMARY: The U.S. Fish and Wildlife Service is reviewing available economic and biological information on the black carp (Mylopharyngodon piceus) for possible addition to the list of injurious wildlife under the Lacey Act. The importation and introduction of M. piceus into the natural ecosystem of the United States may pose a threat to native mollusk and fish populations. Listing M. piceus as injurious would prohibit its importation into, or transportation between, the continental United States, the District of Columbia, Hawaii, the Commonwealth of Puerto Rico, or any territory or possession of the United States, with limited exceptions. This notice seeks comments from the public to aid in determining if a proposed rule is warranted.

DATES: Comments must be submitted on or before August 1, 2000.

ADDRESSES: Comments may be mailed or sent by fax to the Chief, Division of Fish and Wildlife Management Assistance, U.S. Fish and Wildlife Service, 1849 C Street, NW, Mail Stop 840 ARLSQ, Washington, DC 20240, of FAX (703) 358-2044.

FOR FURTHER INFORMATION CONTACT: Susan Mangin, Division of Fish and Wildlife Management Assistance at (703) 358-1718.

SUPPLEMENTARY INFORMATION: In a February 24, 2000, letter to the Director of the U.S. Fish and Wildlife Service, the Mississippi Interstate Cooperative Resource Association (MICRA) expressed concern that Mylopharyngodon piceus posed a threat to native fish and mollusk populations. MICRA requested that the Director take the necessary steps to list M. piceus as an injurious species of wildlife.

M. piceus is a freshwater fish that inhabits lakes and lower reaches of rivers. It is native to most major Pacific drainages of eastern Asia and highly esteemed as a food fish in China. M. piceus was introduced into the United States in the early 1970s as a “contaminant” in imported grass carp stocks. A second introduction occurred in the 1980s for yellow grub control and as a food fish.

M. piceus larvae and fingerlings feed on zooplankton, while larger M. piceus feed on benthic organisms with shells. Because the species commonly feeds on mollusks, M. piceus is considered an effective method of biological control of snails.

M. piceus spawn in rivers, and their eggs are pelagic or semipelagic and drift downstream. They are annual spawners, with spawning triggered by water temperature, rising water levels, and availability of food. Research has indicated that pond-cultured females can produce an average of 65,000 eggs per kg (29,000 per lb.) of body weight.

The Lacey Act (18 U.S.C. 42) and implementing regulation in 50 CFR part 16 restrict the importation into or the transportation of live wildlife or eggs thereof between the continental United States, the District of Columbia, Hawaii, the Commonwealth of Puerto Rico, or any territory or possession of the United States of any nonindigenous species of wildlife determined to be injurious or potentially injurious to certain interests, including those of agriculture, horticulture, forestry, the health and welfare of human beings, and the welfare and survival of wildlife and wildlife resources in the United States. However, injurious wildlife may be imported by permit for zoological, educational, medical, or scientific purposes in accordance with permit regulations at 50 CFR 16.22, or by Federal agencies without a permit solely for their own use. If the process initiated by this notice results in the addition of M. piceus to the list of injurious wildlife contained in 50 CFR part 16, their importation into the United States would be prohibited except under the conditions, and for the purposes, described above.

This notice solicits economic, biologic, or other information concerning M. piceus. The information will be used to determine if the species is a threat, or potential threat, to those interests of the United States delineated above, and thus warrants addition to the list of injurious wildlife in 50 CFR 16.13. The information will also assist us in preparing impact analyses and examining alternative protective measures under the Regulatory Flexibility Act (5 U.S.C. 601).

Authority: This notice is issued under the authority of the Lacey Act (18 U.S.C. 42).

Dated: May 16, 2000.
Jamie Rappaport-Clark,
Director, U.S. Fish and Wildlife Service.

[FR Doc. 00-13557 Filed 6-1-00; 8:45 am]

BILLING CODE 4310-55-M